EXPORT-IMPORT BANK OF THE U.S.

Agency Information Collection Activities: Submission for OMB Review; Comment Request (Public Notice 65)

AGENCY: Export-Import Bank of the United States (Ex-Im Bank).

ACTION: Notice and request for comments.

SUMMARY: The Export-Import Bank, as a part of its continuing effort to reduce paperwork and respondent burden, invites the general public and other Federal agencies to comment on the proposed information collection as required by the Paperwork Reduction Act of 1995.

SUPPLEMENTARY INFORMATION: This notice is soliciting comments from the public concerning the proposed collection of information to (1) Evaluate whether the proposed collection is necessary for the paper performance of the functions of the agency, including whether the information will have practical utility; (2) evaluate the accuracy of the agency's estimate of the burden of the proposed collection of information; (3) enhance the quality, utility, and clarity of the information to be collected; and (4) minimize the burden of collection of information on those who are to respond including through the use of appropriated automated collection techniques or other forms of information technology, e.g. permitting electronic submission of responses.

DATES: Comments due on or before October 4, 2004.

ADDRESSES: Direct all requests for additional information to Wendy Wright, Export-Import Bank of the U.S., 811 Vermont Avenue, NW., Washington, DC 20571, wendy.wright@exim.gov, (202) 565-3774. Address all comments to David Rostker, Office of Management and Budget, Office of Information and Regulatory Affairs, NEOB, Room 10202, Washington, DC 20503, (202) 395-3897.

OMB Number: 3048-0012.

Titles and Form Numbers: Export-Import Bank of the U.S. Content Report on Products, & Services In Ex-Im Bank Transactions, EIB 01-02, and Export-Import Bank of the U.S. Annual Aggregate Foreign Content Cause Report, EIB 01-02-A.

Type of Review: Extension of a currently approved collection.

Need and Use: The Information requested creates less of a burden on our exporters who previously certified foreign content for each shipment of goods. With the use of the forms, Ex-Im Bank documents the amount of foreign content in transactions through up-front reporting and back-end verification.

Affected Public: Business and other for-profit/not-for-profit institutions, farms.

Respondents: Entities involved in the export of U.S. goods and services, including exporters, banks, and other non-financial lending institutions that act as facilitators.

Estimated Annual Respondents: 600.

Estimated Time Per Respondent: 1 hour.

Estimated Annual Burden: 600 hours.

Frequency of Response: Every medium and long-term transaction.

Dated: August 27, 2004.
Solomon Bush,
Agency Clearance Officer.

BILLING CODE 6690-01-M

[FR Doc. 04-20047 Filed 9-1-04; 8:45 am]

BILLING CODE 6690-01-C